DEPARTMENT OF DEFENSE

Department of Army, Corps of Engineers

Intent To Prepare an Environmental Impact Statement for the Malibu Creek Enrivonmental Restoration Feasibility Study, Los Angeles County, CA

AGENCY: Department of Army, U.S. Army Corps of Engineers, DoD.

ACTION: Notice of intent.

SUMMARY: The Los Angeles District of the U.S. Army Corps of Engineers will prepare an Environmental Impact Statement (EIS) to support the Malibu Creek Environmental Restoration Feasibility Study, Los Angeles County, CA. Approximately two-thirds of the watershed is in Los Angeles County while the remaining one-third is in Ventura County. The feasibility study area is the Rindge Dam, which is located 2 miles upstream of Malibu Lagoon, and the areas immediately upstream and downstream of the dam. This study will investigate feasible alternatives to restore the Malibu Creek ecosystem, primarily by removing Rindge Dam. Also, feasible alternatives for the removal of sediment behind the dam and the beneficial use of that sediment will be investigated.

The Draft EIS (DEIS) will analyze the potential environmental impacts (beneficial and adverse) of a range of alternatives, including the proposed action and the no action alternative. The Los Angeles District and California Department of Parks and Recreation will cooperate in conducting this feasibility study.

ADDRESSES: District Engineer, U.S. Army Corps of Engineers, Los Angeles District, ATTN: CESPL-PD-RQ (B. Hulkower), P.O. Box 532711, Los Angeles, CA 90035-2325.

FOR FURTHER INFORMATION CONTACT: Ms. Bonnie Hulkower, Environmental Coordinator, telephone (213) 452-3861, or Mr. Jason Shea, Study Manager, telephone (213) 452-3794.

SUPPLEMENTARY INFORMATION:

1. Authorization

This feasibility study was authorized by a resolution adopted by the U.S. House of Representatives Committee on Public Works and Transportation, dated 5th February 1992, which states, in part: “that the Board of Engineers is requested to review the report of the Chief of Engineers on Point Magu to San Pedro Breakwater, California Beach Erosion Control Study, published as House Document 277, 83rd Congress, 2nd Session, and other pertinent reports, to determine whether any modifications of the recommendations contained therein are advisable at the present time, in the interest of shore protection, storm damage reduction, and other purposes along the shores of Southern California from Point Mugu to the San Pedro Breakwater and nearby areas within Ventura County and Los Angeles County, California.”

2. Background

Malibu Creek is located approximately 30 miles west of downtown Los Angeles, California. The drainage area covers approximately 109 square miles of the Santa Monica Mountains and Simi Hills. The feasibility study area currently includes the Rindge Dam, which is located 2 miles upstream of Malibu Lagoon. The non-federal sponsor of the feasibility study is the California Department of Parks and Recreation.

The Rindge family constructed Rindge Dam in the Mid 1920's. The purpose of the dam was to provide approximately 574 acre-feet of water storage for agricultural needs. Rindge Dam is a concrete arch structure 90 feet in height with an arc length of 175 feet at its crest. Sediment carrier by Malibu Creek has deposited behind the dam and filled the reservoir, rendering the structure useless as a water storage facility. It is estimated that approximately 700,000 cubic yards of sediment lies trapped behind the dam.

Rindge Dam no longer serves the purpose that it was originally created for. It neither provides water storage nor flood control protection due to sedimentation behind the dam. During peak events, the entire flow of Malibu Creek rises over the dam's crest. However, the dam does provide bank stability protection since its construction created a milder slope along the Malibu Creek. This requires some consideration as removing the dam could potentially cause the channel banks to erode.

Presently, the dam is considered to be a contributing factor of the declining numbers of steelhead trout in the Malibu Creek Watershed. If no action is taken to secure passage for the steelhead trout to reach the upper watershed and its tributaries, the dam will continue to obstruct this endangered species from reaching the upstream portion of the watershed, thereby limiting the amount of spawning and rearing habitat.

3. Alternatives

The feasibility study will focus on addressing the problems and needs caused by Rindge Dam with the primary objective of the feasibility study being to restore the Malibu Creek ecosystem. Other objective that are considered appropriate may involve possible beneficial use of the sediment behind the dam for beach nourishment or other environmental restoration.

In general, alternative plans will investigate reasonable alternatives to restore Malibu Creek, primarily by removing Rindge Dam. Feasible alternatives for the removal of sediment behind the dam and the beneficial use of that sediment will also be investigated. Significant beneficial impacts to the riparian ecosystem (especially to steelhead trout) are expected from restoration alternatives identified in the feasibility study.

4. Scoping Process

Participation of all interested Federal, State, and County agencies, groups with environmental interests, and any interested individuals are encouraged. Public involvement will be most beneficial and worthwhile in identifying the scope of pertinent, significant environmental issues to be addressed, offering useful information such as published or unpublished data, providing direct personal experience or knowledge which informs decision making, and recommending suitable mitigation measures to offset potential impacts from the proposed action or alternatives.

A public scoping meeting was held on May 29, 2002, from 7 until 9 p.m. at the Las Virgenes Municipal Water District Training Room, 4232 Las Virgenes Road, Calabasas, CA, as advertised in local newspapers. The purpose of the scoping meeting was to gather information from the public or interested organizations about issues and concerns that they would like to see addressed in the DEIS. The Los Angeles District is accepting comments delivered or sent in writing to the address above. The scoping period will conclude August 5, 2002.

5. Availability of the DEIS

The DEIS is expected to be available to the public for review and comment beginning in the spring of 2004.

Luz D. Ortiz,
Army Federal Register Liaison Officer.

[FR Doc. 02-14230 Filed 6-5-02; 8:45 am]

BILLING CODE 3710-KF-M